DEPARTMENT OF COMMERCE

National Oceanic and Atmospheric Administration

Science Advisory Board Meeting

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

DATES: The meeting will be held Tuesday, July 29, 2014, from 10:30 a.m. to 5:30 p.m. MDT and Wednesday, July 30, 2014, from 8:30 a.m. to 1:15 p.m. MDT. These times and the agenda topics described below are subject to change. Please refer to the Web page http://www.sab.noaa.gov/Meetings/meetings.html for the most up-to-date meeting agenda.

ADDRESSES: The meeting will be held at the NOAA David Skaggs Research Center, 325 Broadway, Boulder, Colorado 80305. Please check the SAB Web site http://www.sab.noaa.gov/Meetings/meetings.html for directions to the meeting location.

FOR FURTHER INFORMATION CONTACT: Dr. Cynthia Decker, Executive Director, Science Advisory Board, NOAA, Rm. 11230, 1315 East-West Highway, Silver Spring, Maryland 20910. (Phone: 301-734-1156, Fax: 301-713-1459). Email: Cynthia.Decker@noaa.gov; or visit the NOAA SAB Web site at http://www.sab.noaa.gov.

SUPPLEMENTARY INFORMATION: Status: The meeting will be open to public participation with a 15-minute public comment period on July 29 from 2:00-2:15 p.m. MDT (check Web site to confirm time). The SAB expects that public statements presented at its meetings will not be repetitive of previously submitted verbal or written statements. In general, each individual or group making a verbal presentation will be limited to a total time of two (2) minutes. Individuals or groups planning to make a verbal presentation should contact the SAB Executive Director by July 24, 2014, to schedule their presentation. Written comments should be received in the SAB Executive Director's Office by July 24, 2014, to provide sufficient time for SAB review. Written comments received by the SAB Executive Director after July 24, 2014, will be distributed to the SAB, but may not be reviewed prior to the meeting date. Seating at the meeting will be available on a first-come, first-served basis.

Special Accommodations: These meetings are physically accessible to people with disabilities. Requests for special accommodations may be directed no later than 12:00 p.m. on July 24, 2014, to Dr. Cynthia Decker, SAB Executive Director, SSMC3, Room 11230, 1315 East-West Hwy., Silver Spring, MD 20910; Email: Cynthia.Decker@noaa.gov.

Matters To Be Considered: The meeting will include the following topics: (1) Report on the Review of the Cooperative Institute for Meteorological Satellite Studies (CIMSS); (2) Report on the Review of the Joint Institute for the Study of the Atmosphere and the Ocean (JISAO); (3) Recommendations from the Gulf Coast Ecosystem Restoration Science Program Advisory Working Group (RSPAWG); (4) Overview of the Cooperative Institutes Review Process and Discussion of Review Criteria; (5) NOAA Panel Discussion: A Retrospective Look at Two Colorado Flash Floods: Big Thompson 1976 and Front Range 2013; (6) NOAA Update; (7) Working Group Updates and (8) Science Presentations and Tours from NOAA programs in the David Skaggs Research Center.

Dated: July 1, 2014.
Jason Donaldson,
Chief Financial Officer, Office of Oceanic and Atmospheric Research, National Oceanic and Atmospheric Administration.

[FR Doc. 2014-16170 Filed 7-9-14; 8:45 am]

BILLING CODE 3510-KD-P